DEPARTMENT OF HOMELAND SECURITY

Coast Guard

[USCG-2007-27657]

Cooperative Research and Development Agreement: Command Center Decision Support Tools and Concept of Operations

AGENCY: Coast Guard, DHS.

ACTION: Notice of intent; request for public comments.

SUMMARY: The Coast Guard announces its intent to enter into a Cooperative Research and Development Agreement (CRADA) with Raytheon Corporation's Mission Innovation Group, to identify and investigate, via currently available modeling and simulation techniques, the potential of conceptual Next Generation, Command Center Decision Support Tools and Concept of Operations (CONOPS) for enhancing maritime security. The Coast Guard invites public comment on the proposed CRADA and also invites other non-Federal participants, who have the interest and capability to bring similar in-kind contributions to this type of research, to be considered for entry into similar CRADAs.

DATES: Comments and related material on the proposed CRADA, and preliminary inquiries about participation in CRADAs, must reach the Docket Management Facility on or before July 12, 2007. Proposals from other potential, non-Federal CRADA participants must reach the Docket Management Facility on or before December 10, 2007.

ADDRESSES: You may submit comments identified by Coast Guard docket number USCG-2007-27657 to the Docket Management Facility at the U.S. Department of Transportation. To avoid duplication, please use only one of the following methods:

(1) Web Site: http://dms.dot.gov.

(2) Mail: Docket Management Facility, U.S. Department of Transportation, West Building Ground Floor W12-140, 1200 New Jersey Avenue, SE., Washington, DC 20590.

(3) Fax: 202-493-2251.

(4) Delivery: Docket Management Facility, U.S. Department of Transportation, West Building Ground Floor W12-140, 1200 New Jersey Avenue, SE., Washington, DC 20590, between 9 a.m. and 5 p.m., Monday through Friday, except Federal holidays. The telephone number is 202-366-9329.

Potential, non-Federal CRADA participants may submit inquiries and CRADA proposals to James W. Gynther, U.S. Coast Guard Research and Development Center, 1082 Shennecossett Road, Groton, CT 06340-6048 (e-mail: James.W.Gynther@uscg.mil).

FOR FURTHER INFORMATION CONTACT: If you have questions on this notice, contact James W. Gynther, U.S. Coast Guard Research and Development Center, 1082 Shennecossett Road, Groton, CT 06340-6048, telephone 860-441-2858, e-mail: James.W.Gynther@uscg.mil. If you have questions on viewing or submitting material to the docket, call Renee V. Wright, Program Manager, Docket Operations, telephone 202-493-0402.

SUPPLEMENTARY INFORMATION:

Request for Comments

All comments received will be posted, without change, to http://dms.dot.gov and will include any personal information you have provided. We have an agreement with the Department of Transportation (DOT) to use the Docket Management Facility. Please see DOT's “Privacy Act” paragraph below.

Submitting comments: If you submit a comment, please include your name and address, identify the docket number for this notice (USCG-2007-27657) and give the reason for each comment. You may submit your comments by electronic means, mail, fax, or delivery to the Docket Management Facility at the address under ADDRESSES; but please submit your comments by only one means. If you submit them by mail or delivery, submit them in an unbound format, no larger than 8 by 11 inches, suitable for copying and electronic filing. If you submit them by mail and would like to know that they reached the Docket Management Facility, please enclose a stamped, self-addressed postcard or envelope. We will consider all comments received during the comment period.

Viewing comments and documents: To view comments, go to http://dms.dot.gov at any time, click on “Simple Search,” enter the last five digits of the docket number for this notice, and click on “Search.” You may also visit the Docket Management Facility, West Building Ground Floor W12-140, 1200 New Jersey Avenue, SE., Washington, DC 20590, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Cooperative Research and Development Agreements

Cooperative Research and Development Agreements, or CRADAs, are authorized by the Federal Technology Transfer Act of 1986 (Pub. L. 99-502, codified at 15 U.S.C. 3710a). A CRADA promotes the transfer of technology to the private sector for commercial use as well as specified research or development efforts that are consistent with the mission of the Federal parties to the CRADA. The Federal party or parties agree with one or more non-Federal parties to share research resources (but the Federal party does not contribute funding). The Department of Homeland Security (DHS), as an executive agency under 5 U.S.C. 105, is a Federal agency for purposes of 15 U.S.C. 3710a and may enter into a CRADA. DHS delegated its authority to the Commandant of the Coast Guard (see DHS Delegation No. 0160.1, para. 2.B(34)) and the Commandant has delegated his authority to the Coast Guard Research and Development Center.

CRADAs are not procurement contracts. Care is taken to ensure that CRADAs are not used to circumvent the contracting process. This typically includes advertisement in the Federal Register to give all potential CRADA partners opportunity to participate, remove any appearance of favoritism, and limit the risk of future litigation by non-CRADA partners. CRADAs have a specific purpose and should not be confused with other types of agreements such as procurement contracts, grants, and cooperative agreements.

Goal of Proposed CRADA

Under the proposed agreement, the Coast Guard's Research and Development Center (USCG R&DC) would collaborate with non-Federal participants. Together, the R&DC and its CRADA participants would identify and investigate, via currently available modeling and simulation techniques, the potential of conceptual Next Generation, Command Center Decision Support Tools and CONOPS to enhance maritime security. This joint research would also provide additional understanding of the processes and support tools within USCG and other command centers, which have the responsibility to detect, assess, and interdict maritime threats within the coastal waters of a sovereign state.

The R&DC, with its CRADA participants, will create and employ a structured and collaborative test environment to evaluate concepts and technologies for Next Generation Command Center Decision Support Tools.

Party Contributions

We anticipate that the Coast Guard's contributions under the proposed CRADA will include the following:

(1) Provide candidate Command Center Decision Support Tool Concepts;

(2) Provide Command Center personnel to serve as (a) Subject Matter Experts during simulation environment and conceptual support tool development and (b) Test Subjects during the concept evaluation exercises; and

(3) Review of the CRADA partner's Draft Results Report after each concept evaluation exercise.

We anticipate that the non-Federal participants' contributions under the proposed CRADA will include the following:

(1) The provision of appropriate modeling and simulation environment(s) for evaluating conceptual Next Generation, Command Center Decision Support Tools;

(2) Development and execution of a modeling and simulation test plan(s);

(3) Analysis of modeling and simulation results;

(4) Development of a Draft CRADA Results Report after each concept evaluation exercise; and

(5) The provision to the U.S. Coast Guard Research and Development Center of all Final CRADA Results Reports in electronic format suitable for distribution to other interested, qualified parties upon request.

Selection Criteria

The Coast Guard reserves the right to select for CRADA participants all, some, or none of the proposals in response to this notice. The Coast Guard will provide no funding for reimbursement of proposal development costs. Proposals (or any other material) submitted in response to this notice will not be returned. Proposals submitted are expected to be unclassified and have no more than four single-sided pages (excluding cover page and resumes). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

This is a technology transfer/development effort. Presently, the Coast Guard has no plan to procure the Next Generation, Command Center Decision Support technology being investigated under this CRADA. Since the goal of this CRADA is “to identify and investigate the potential of conceptual Next Generation, Command Center Decision Support Tools,” and not to set future CG acquisition requirements for same, non-Federal CRADA partners will not be excluded from any future CG procurements based solely on their participation within this CRADA.

Special consideration will be given to small business firms/consortia, and preference will be given to business units located in the U.S.

Dated: May 29, 2007.
T.W. Jones,
CAPT, USCG, Commanding Officer, R&D Center.

[FR Doc. E7-11257 Filed 6-11-07; 8:45 am]

BILLING CODE 4910-15-P